DEPARTMENT OF TRANSPORTATION

Office of the Secretary

[Docket No. DOT-OST-2012-0168]

RIN 2105-ZA02

Guidance on State Freight Plans and State Freight Advisory Committees

AGENCIES: Office of the Secretary of Transportation (OST), Federal Aviation Administration (FAA), Federal Highway Administration (FHWA), Federal Motor Carrier Safety Administration (FMCSA), Federal Railroad Administration (FRA), Maritime Administration (MARAD), Pipeline and Hazardous Materials Safety Administration (PHMSA), Saint Lawrence Seaway Development Corporation (SLSDC); U.S. Department of Transportation (DOT).

ACTION: Notice of guidance; response to comments.

SUMMARY: The FAST Act included a provision that requires each State that receives funding under the National Highway Freight Program to develop a State Freight Plan that provides a comprehensive plan for the immediate and long-range planning activities and investments of the State with respect to freight and meets all the required plan contents listed in the Act. This guidance provides the minimum required elements that State Freight Plans must meet, provides a template that reflects those statutory requirements, and suggests recommended, but optional elements, that States may include in their State Freight Plans. It also provides suggestions for establishing State Freight Advisory Committees that will benefit State freight planning. This notice also responds to comments submitted in response to interim guidance on State Freight Plans and State Freight Advisory Committees published by DOT on October 15, 2012.

DATES: Unless otherwise stated in this Notice, this guidance is effective October 14, 2016.

FOR FURTHER INFORMATION CONTACT: Ryan Endorf, 1200 New Jersey Avenue SE., Washington, DC 20590. Telephone Number (202) 366-4835 or Email ryan.endorf@dot.gov. Questions can also be submitted to Freight@dot.gov.

SUPPLEMENTARY INFORMATION: The purpose of this Guidance on State Freight Plans and State Freight Advisory Committees is to provide States with information on the statutorily required elements of State Freight Plans under 49 U.S.C. 70202 and recommend approaches and information that States may include in their State Freight Plans. This guidance also strongly encourages States to establish State Freight Advisory Committees and provides suggestions as to how those Committees can help the State with its freight planning.

49 U.S.C. 70202 lists ten required elements that all State Freight Plans must address for each of the transportation modes:

1. An identification of significant freight system trends, needs, and issues with respect to the State;

2. A description of the freight policies, strategies, and performance measures that will guide the freight-related transportation investment decisions of the State;

3. When applicable, a listing of—

a. multimodal critical rural freight facilities and corridors designated within the State under section 70103 of title 49 (National Multimodal Freight Network);

b. critical rural and urban freight corridors designated within the State under section 167 of title 23 (National Highway Freight Program);

4. A description of how the plan will improve the ability of the State to meet the national multimodal freight policy goals described in section 70101(b) of title 49, United States Code and the national highway freight program goals described in section 167 of title 23;

5. A description of how innovative technologies and operational strategies, including freight intelligent transportation systems, that improve the safety and efficiency of the freight movement, were considered;

6. In the case of roadways on which travel by heavy vehicles (including mining, agricultural, energy cargo or equipment, and timber vehicles) is projected to substantially deteriorate the condition of the roadways, a description of improvements that may be required to reduce or impede the deterioration;

7. An inventory of facilities with freight mobility issues, such as bottlenecks, within the State, and for those facilities that are State owned or operated, a description of the strategies the State is employing to address those freight mobility issues;

8. Consideration of any significant congestion or delay caused by freight movements and any strategies to mitigate that congestion or delay;

9. A freight investment plan that, subject to 49 U.S.C. 70202(c), includes a list of priority projects and describes how funds made available to carry out 23 U.S.C. 167 would be invested and matched; and

10. Consultation with the State Freight Advisory Committee, if applicable.

Each of these required elements is discussed more fully in Section V of the guidance below. In addition, DOT suggests a number of optional items that States may consider including in their State Freight Plans. These optional elements are discussed more fully in Section VI below.

MAP-21 included two provisions that required the Secretary to encourage States to establish State Freight Plans and State Freight Advisory Committees. The FAST Act moved these provisions from title 23 to title 49 (Multimodal Freight Transportation) and required that States complete a State Freight Plan in order to obligate freight formula funds under 23 U.S.C. 167. State Freight Plans and State Freight Advisory Committees are complementary to other FAST Act freight provisions, such as the development of the National Freight Strategic Plan and the release of a Final National Multimodal Freight Network (NMFN; DOT released an Interim NMFN on May 27, 2016 per the statutory requirement).

Following the enactment of MAP-21 on July 6, 2012, DOT released Interim Guidance on State Freight Plans and State Freight Advisory Committees for public comment (77 FR 62596, October 15, 2012). DOT received 54 comments from State Departments of Transportation, local governments, industry groups, ports, and private individuals pertaining to various aspects of the Interim Guidance. In this section, DOT responds to these comments and describes their relevance to the new provisions in 49 U.S.C. 70201 and 70202, established under section 8001 of the FAST Act.

Response to Comments

Scope of Guidance

An important issue for some of the commenters was that it appeared to create an unnecessary burden for States by suggesting that a State include in its State Freight Plan items beyond what is required by section 1118 of MAP-21. In particular, these commenters felt that the Interim Guidance lacked clarity about which plan elements were required as opposed to those that were recommended but not mandatory. Some commenters noted that certain aspects of the recommended guidance did not apply to their States or alternatively, that their States lacked the financial or technical capacity to address those aspects fully in their State Freight Plans. Additionally, there was concern that the Secretary would give preferential treatment (through the Secretary's discretionary authority to approve projects for increased Federal share under section 1116 of MAP-21) to States that included some or all of the recommended elements from the Interim Guidance (note that section 1116 of MAP-21 was repealed by the FAST Act).

To address these concerns, DOT is modifying the structure of the guidance below to clarify which elements are statutorily required versus those elements that are recommended for States to consider for optional inclusion in their State Freight Plans. As indicated in this new Guidance, some provisions for the State Freight Plans are required by the FAST Act and must be addressed in order for a State to obligate apportioned funds under the NHFP.

DOT recognizes that States vary in their transportation needs and system requirements, particularly regarding multimodal freight transportation. Some of the recommended elements may not be relevant to every State, and as such, do not have to be included in the plan. Similarly, the guidance is not intended to preclude States from supplementing their State Freight Plans with elements not described in the FAST Act or in this guidance. States have significant flexibility in creating State Freight Plans and State Freight Advisory Committees that fit their needs.

Based on a review of State Freight Plans and State Freight Advisory Committee materials that have been published by some States, DOT is confident that States, MPOs, local and tribal governments, and private entities will be able to take advantage of State Freight Plans and State Freight Advisory Committees to improve their freight planning processes. These materials are extensive in nature and far exceed many of the Plan and Advisory Committee requirements of MAP-21.¹ To date, 46 States are now in the process of developing or have developed State Freight Plans or modified Long-Range Statewide Transportation Plans to include freight provisions (many of these plans were developed prior to MAP-21), and 35 States have established State Freight Advisory Committees. Based on the new provisions of the FAST Act, it is anticipated that any State Freight Plan that was MAP-21 compliant will require some modification to meet the FAST Act requirements. These modifications will be discussed in greater detail below.

¹ It is important to note that MAP-21 did not require a State Freight Plan in order to receive federal formula or discretionary funding, although the development of a compliant plan was a requirement for consideration for eligibility to use a larger Federal share of federal aid funding for freight projects under section 1116 of MAP-21, Prioritization of Projects to Improve Freight Movement. This funding provision was repealed by the FAST Act and replaced with the new formula program for freight projects.

DOT will have a role in determining whether a State Freight Plan conforms to the requirements of 49 U.S.C. 70202. This review will be made using the statutorily defined requirements of section 70202 as they pertain to the specific transportation and other circumstances defined by each State. The optional elements suggested for consideration in this guidance will not be used as a factor for determining whether a State Freight Plan conforms to the requirements of 49 U.S.C. 70202.

Following the publication of the Interim Guidance in 2012, DOT received a number of comments regarding section 1116 of MAP-21. Because the FAST Act repealed section 1116 of MAP-21, DOT will not specifically address these comments. However, with respect to the new requirement in the FAST Act that States must have FAST Act-compliant State Freight Plans in order to remain eligible to obligate formula funding under the NHFP after December 4, 2017, the new Guidance below specifies that State Freight Plans, whether separate or incorporated into the Long-Range Statewide Transportation Plan, will be reviewed by DOT to determine whether the Plan satisfies the minimum requirements of 49 U.S.C. 70202.

Other commenters expressed concerns that the October 15, 2012, Interim Guidance was not sufficiently prescriptive. This set of commenters thought that the Interim Guidance should have provided more details so that States would not ignore important considerations in developing their plans. To address these concerns, we have provided additional recommended elements for consideration, along with the rationale for providing such suggestions. As previously stated, these recommendations are optional and are not meant to be exhaustive of additional considerations that could be included by a State. As addressed above, DOT recognizes that States differ in their freight considerations and capacities and these variations should be reflected in their State Freight Plans. States with unique freight characteristics are welcome to add those considerations into their State Freight Plans even if these considerations are not explicitly outlined in the guidance. DOT will monitor best practices regarding these plans and may seek to share such practices through publicly available resources like a public Web site, webinar, or future guidance.

DOT also received comments suggesting that additional categories of stakeholders should be included as part of State Freight Advisory Committees. DOT notes below that the FAST Act expands the categories of participants to be included in State Freight Advisory Committees, but also recognizes that States are free to add other participants and to exercise their discretion as to which stakeholders to include in their State freight planning process. The Guidance provided below offers suggestions for additional categories of members. Other recommendations in this Guidance are intended to assist the State in establishing protocols and best practices for State Freight Advisory Committees relative to the intent of 49 U.S.C. 70201.

Multimodal Considerations

A second major issue in the comments received on the October 15, 2012, Interim Guidance relates to how States should consider non-highway modes in their freight planning. Many commenters, including several State DOTs, urged that DOT encourage States to include maritime, rail, aviation, and other non-highway modes and facilities in their State Freight Plans and State Freight Advisory Committees. Some commenters, by contrast, urged that DOT not recommend inclusion of non-highway portions of the freight system.

The U.S. transportation system moved a daily average of 49 million tons of freight valued at over $53 billion in 2015 (daily value). By 2045, the U.S. population is expected to increase by 70 million more people and freight tons moved by all modes of transportation are expected to increase by 40 percent according to recent data released by the Bureau of Transportation Statistics (BTS).² While much of this freight growth will occur on highways and depend upon highway connectivity, particularly for first and last mile connections, significant increases are also projected for rail, maritime, pipeline, and air freight. In order to meet these future challenges, it is essential that freight planning efforts and investment decisions are coordinated, to the extent possible, among all modes of transportation. This view was supported in other public comments collected by DOT for the development of another MAP-21 requirement, the Primary Freight Network.³ DOT recognizes that not all States have the ability to influence decisions over non-highway infrastructure, but a plan that considers the needs and capabilities of the entire freight system, including providing improved connectivity between different modal systems, will lead to better efficiency and safer outcomes than one that only considers the needs of highway freight. In addition, two primary purposes for establishing the National Multimodal Freight Network (49 U.S.C. 70103), a requirement of the FAST Act, are to assist States in strategically directing resources toward improved system performance for the efficient movement of freight on the network and to inform freight transportation planning. Supporting the importance of multimodal freight consideration, Congress created a requirement for a multimodal freight network in the FAST Act.

² https://www.transportation.gov/briefing-room/dot-releases-30-year-freight-projections.

³ https://www.transportation.gov/sites/dot.gov/files/docs/FHWA-151002-013_F%20PFN.pdf.

State Freight Plans developed pursuant to the FAST Act are multimodal in scope. DOT views State Freight Plans as a critical resource for the States to use in prioritizing freight transportation investments and guiding future transportation policymaking. Under the FAST Act, this linkage has been reinforced; prioritization of freight projects (within a State Freight Plan) is now mandatory. Specifically, within the State Freight Plan, a freight investment plan must include a prioritized list of projects and describe how funds made available to carry out the NHFP would be invested and matched by other funding sources. 49 U.S.C. 70202(b)(9). This information will also be helpful to States, MPOs, local and tribal governments, maritime ports and other special transportation authorities, and the Federal government in the identification of freight projects that may be eligible for funding under the Nationally Significant Freight and Highway Projects program (known as the “FASTLANE program,” ⁴ established under section 1105 of the FAST Act and codified in 23 U.S.C. 117); the Advanced Transportation and Congestion Management Technologies Deployment program (established by section 6004 of the FAST Act and codified in 23 U.S.C. 503(c)); as well as for applications for credit under the Transportation Infrastructure Finance and Innovation Act (TIFIA) and Railroad Rehabilitation and Improvement Financing (RRIF) programs. However, the only projects that must be included in the freight investment plan of the State Freight Plan (as of December 4, 2017) are those that would use NHFP funding.

⁴ Fostering Advancements in Shipping and Transportation for the Long-term Achievement of National Efficiencies.

State Freight Plans ultimately reflect each State's analysis of its own economy and how the key sectors of its economy rely upon the freight transportation system. The more comprehensively a State Freight Plan represents all transportation modes related to freight movement, the more useful it will be in meeting the freight transportation needs of all of the State's industries, and in helping the State to make the best freight transportation decisions. State Freight Advisory Committees, with comprehensive representation by public and private freight interests, are a highly effective means of gathering information on system needs and potential solutions to be included in State Freight Plans and for other planning processes at interstate and local levels.

DOT made extensive use of the State Freight Plans prepared in response to section 1118 of MAP-21 (or earlier State-initiated efforts) in formulating the October 2015 draft National Freight Strategic Plan required under section 1115 of MAP-21 (this requirement was renewed by the FAST Act under 49 U.S.C. 70102). The new statutory provisions in 49 U.S.C. 70202 with regard to preparing fiscally constrained multimodal freight investment plans will greatly strengthen DOT's ability to respond to requirements for future revisions of the multimodal National Freight Strategic Plan under 49 U.S.C. 70102, which requires, among other factors, the identification of freight infrastructure bottlenecks and information on the cost of addressing each bottleneck, as well as any operational improvements that could be implemented. Accurate information of this type cannot be developed at the national level but rather must rely on careful assessments at the State and MPO levels, some of which is now required in State Freight Plans.

Interstate and International Collaboration

Several comments submitted for the October 15, 2012, Interim Guidance noted that the efficiency of freight movement has an important impact on international trade and that freight transportation issues often transcend State borders. In particular, these comments suggested that State Freight Advisory Committees should also include representatives from neighboring States or at least coordinate directly on regional priorities with other States. DOT fully agrees that efficient and reliable freight movement is a critical factor in stimulating international and interstate trade and encourages States to work jointly with their State and international neighbors, as well as with regional planning organizations and corridor coalitions, to prioritize projects that can facilitate freight movement across borders. While there are no specific requirements in chapter 702 of title 49, United States Code, for participation of neighboring States and nations in State Freight Advisory Committees or in the development of State Freight Plans, DOT believes that such participation would be valuable in facilitating discussions about prioritizing mutually beneficial freight transportation investments. As such, DOT strongly encourages neighboring States and countries to work together or consult with each other during the development or updating of State Freight Plans. Additionally, for multi-state projects that would be on a fiscally constrained freight investment plan, those multi-state projects would require coordination of the States involved such that the project is accurately and consistently reflected in each State's Freight Plan.

Integration With Existing State Planning Processes

Many commenters on the October 15, 2012, Interim Guidance addressed the issue of integrating State Freight Plans within the existing State planning process. Several commenters emphasized the role that MPOs should have in this process. Other commenters mentioned that State Freight Planning should be coordinated in part with State environmental and economic development agencies. Some commenters emphasized the role of regional planning.

DOT strongly recommends that States include all relevant parties in their freight planning processes, particularly through inclusion in State Freight Advisory Committees. This inclusion is supported by section 8001 of the FAST Act which requires that, “The Secretary of Transportation shall encourage each State to establish a freight advisory committee consisting of a representative cross-section of public and private sector freight stakeholders, including representatives of ports, freight railroads, shippers, carriers, freight-related associations, third-party logistics providers, the freight industry workforce, the transportation department of the State, and local governments” (49 U.S.C. 70201(a)). Other potential members of the State Freight Advisory Committees, including State environmental agencies and tribal governments, are described in the Guidance below. Even in instances where an organization is not a participant in a State Freight Advisory Committee, DOT recommends that the freight planning work of the organization be reviewed and incorporated into the State Freight Plan.

DOT recommends that MPOs (although not specifically listed in 49 U.S.C. 70201) be adequately represented in the State Freight Advisory Committee and in the development of the State Freight Plan. States and MPOs already coordinate planning activities in the development of Long-Range Statewide Transportation Plans and statewide transportation improvement programs (STIPs). Joint participation by State DOTs and MPOs in multimodal State Freight Advisory Committees will help ensure that State Freight Plan, TIP, and STIP processes are coordinated, fully address non-highway freight projects, and are consistent in their treatment. Existing and enhanced cooperation between States and MPOs will be vital in the development of fiscally constrained freight investment plans that must now be part of the State Freight Plan under 49 U.S.C. 70202.

Plan Updates and Modifications

One commenter on the October 15, 2012, Interim Guidance asked how States should proceed if they recently updated their State Freight Plans prior to the release of the Interim Guidance. DOT expects that this question is still relevant for States that updated their State Freight Plans to be compliant with the MAP-21 requirements. DOT notes that in order for a State to obligate NHFP (23 U.S.C. 167) funds 2 years after the date of enactment of the FAST Act (i.e., after December 4, 2017), its State Freight Plan must include the required elements under 49 U.S.C. 70202 (except that the multimodal elements of the plan, which the FAST Act allows, may be incomplete before an obligation is made) and the project must be identified in the State Freight Plan. Thus, if a State recently updated its State Freight Plan, it should verify that its plan addresses all of the required elements under 49 U.S.C. 70202 and that the plan provides the required prioritized fiscally constrained list of freight projects that are needed in the State. If the State Freight Plan is missing any of these elements, the State should modify or amend its plan by December 4, 2017, so that it can continue to obligate funds available through the NHFP.⁵ This modification or revision process would also restart the clock for submitting an updated State Freight Plan, which must be updated at least once every 5 years. States may wish to update their State Freight Plans on the same cycle that they update their Long-Range Statewide Transportation Plan, but States are allowed to update their State Freight Plans at whatever frequency is most suitable for them, provided this cycle does not exceed 5 years. In addition to the fiscally constrained freight investment plan component, States must include in their State Freight Plans, at a minimum, all plan contents required by 49 U.S.C. 70202(b) as they relate to highways in order to obligate NHFP apportioned funds after December 4, 2017. While any multimodal component of a State Freight Plan is not required in order to obligate NHFP funds, DOT strongly encourages States to have incorporated these components in their Plan by that date, when applicable, along with any other multimodal content not already identified in section 70202.

⁵ States may obligate NHFP funding prior to December 4, 2017 without a State Freight Plan, provided they meet the other requirements and eligibilities of the NHFP program.

One State commenting on the October 15, 2012, Interim Guidance objected to listing out the recommended projects, stating that it would create an expectation in the general public that they would be constructed regardless of available funding. That State expressed that projects are developed with potential sources of funding in mind, as opposed to projects being developed without consideration for how they might be funded. DOT notes that the FAST Act addresses this concern both by providing sources of dedicated freight funding (23 U.S.C. 167 and 23 U.S.C. 117) and requiring in 49 U.S.C. 70202 that a State Freight Plan include a fiscally constrained freight investment plan that includes a list of priority projects and describes how NHFP funds would be invested and matched. DOT believes that these plans will help States to identify and act on their freight priorities. Further, State Freight Plans will be more useful for policymakers at all levels of government and the public if States can provide more information in advance about prioritized projects, including information about a project's need for funding and potential funding streams.

Guidance on State Freight Plans and State Freight Advisory Committees

Table of Contents

I. Background and Program Purpose

II. Policy

III. Funding

IV. State Freight Advisory Committees

V. State Freight Plans—Required Elements

VI. State Freight Plans—Optional Elements

VII. Other Encouragements

VIII. Data and Analytical Resources for State Freight Planning

I. Background and Program Purpose

The purpose of this document is to provide guidance on the implementation of 49 U.S.C. 70201 (State Freight Advisory Committees) and 70202 (State Freight Plans), as established under the Fixing America's Surface Transportation Act (FAST Act; Pub. L. 114-94). These concepts were initially introduced under sections 1117 and 1118, respectively, of the Moving Ahead for Progress in the 21st Century Act (MAP-21; Pub. L. 112-141). 49 U.S.C. 70201 requires the Secretary to encourage each State to establish a State Freight Advisory Committee consisting of a representative cross-section of public and private freight stakeholders. 49 U.S.C. 70202 requires each State receiving funding under 23 U.S.C. 167 (NHFP) to develop a comprehensive State Freight Plans that include both immediate and long-term freight planning activities and investments. Section 70202 specifies certain minimum contents for State Freight Plans, and provides that such plans may be developed separate from or be incorporated into the Long-Range Statewide Transportation Plans required by 23 U.S.C. 135.

The provisions for the State Freight Advisory Committees and State Freight Plans described under MAP-21 and the FAST Act are similar in content and scope, with some important distinctions. Unlike the provisions in MAP-21, which only encouraged the development of State Freight Plans,⁶ section 8001 of the FAST Act requires that each State that receives NHFP funds under 23 U.S.C. 167 shall develop a freight plan that provides a comprehensive plan for the immediate and long-range planning activities and investments of the State with respect to freight. State Freight Plans developed pursuant to the FAST Act are multimodal in scope. For example, a State Freight Plan is required to include a description of how the Plan will improve the ability of the State to meet the national multimodal freight policy goals described in 49 U.S.C. 70101(b), and if applicable, the State Freight Plan must include multimodal critical rural freight facilities and corridors designated within the State under 49 U.S.C. 70103. State Freight Plans are meant to be comprehensive, and as such, they should assist State planning that involves all relevant freight modes (highway, rail, maritime, air cargo, and pipeline, as appropriate to that State).

⁶ The only requirement for a State Freight Plan under MAP-21 was to gain eligibility for consideration for a higher federal match for freight projects; this provision was repealed under the FAST Act.

Under 23 U.S.C. 167(i)(4), effective beginning 2 years after the date of the enactment of the FAST Act, each State that plans to obligate funds apportioned to the State under the NHFP must have developed a State Freight Plan in accordance with 49 U.S.C. 70202 (as it relates to highways), though the multimodal components of the Plan may be incomplete. In addition to the requirements for State Freight Plans under MAP-21, each FAST Act-compliant Plan must include a fiscally constrained freight investment plan and a list of the multimodal critical rural freight facilities and corridors that the State designates under 49 U.S.C. 70103 and the critical rural freight corridors and critical urban freight corridors (if these have been identified at the time of submission of the Plan) designated by the State and MPOs under 23 U.S.C. 167. FHWA has issued separate guidance on the implementation of 23 U.S.C. 167, which can be found here: http://www.ops.fhwa.dot.gov/freight/pol_plng_finance/policy/fastact/s1116nhfpguidance/.

FHWA has also provided a detailed Questions and Answers document that is available here: http://www.ops.fhwa.dot.gov/freight/pol_plng_finance/policy/fastact/s1116nhfpqa/.

II. Policy

DOT strongly encourages all States to establish State Freight Advisory Committees. Such Advisory Committees are an important part of the process needed to develop a thorough State Freight Plan. If a State establishes a State Freight Advisory Committee, the State must consult with its respective advisory committee while developing or updating its State Freight Plan (49 U.S.C. 70202(b)(10)). Bringing together the perspectives and knowledge of public and private partners, including shippers, carriers, and infrastructure owners and operators, is important to developing a comprehensive and relevant State Freight Plan.

Pursuant to 49 U.S.C. 70202, each State that receives funding for the NHFP shall develop a comprehensive freight plan that provides for the immediate and long-range planning activities and investments of the State with respect to freight. Further, 23 U.S.C. 167(i)(4) specifies that, notwithstanding any other provision of the FAST Act, effective beginning 2 years after the date of enactment of the FAST Act (i.e., December 4, 2017), a State may not obligate funds apportioned to the State under the NHFP unless the State has developed a freight plan in accordance with 49 U.S.C. 70202, except that the multimodal component of the plan may be incomplete. State Freight Plans are required to be updated no less frequently than every 5 years.

DOT strongly encourages every State to develop a multimodal State Freight Plan for reasons in addition to enabling long-term access to funding under the NHFP. DOT understands that the effects of freight transportation are often regional or national in scope, and because freight providers own and operate private infrastructure, it can be more difficult for States to incorporate freight projects into their planning process than it is for projects that aid passenger transportation. DOT strongly encourages States to consider the performance and modal interaction of the overall freight system when developing their State Freight Plans. State Freight Plans that consider all the relevant transportation modes and performance measures (congestion reduction, safety, infrastructure condition, economic vitality, system reliability, and environmental sustainability) will be more informed and lead to better outcomes.⁷

⁷ For more information on performance measures, particularly on highways, please see www.fhwa.dot.gov/TPM.

Section 8001 of the FAST Act made important reforms to establish and codify a National Multimodal Freight Policy, National Multimodal Freight Network, multimodal State Freight Advisory Committees, and State Freight Plans, which must address the goals of the National Multimodal Freight Policy. The FAST Act greatly increases the likelihood of widespread adoption of improved freight transportation planning and implementation by creating dedicated sources of freight funding with multimodal eligibility. Because freight transportation is critical to the economic vitality of the United States and now has a source of dedicated funding through the FAST Act, renewed attention to planning and investing for safe and efficient freight transportation will have strong positive effects on the welfare of Americans and the competitiveness of the United States in the global economy.

State Freight Plans can help States contribute to the goals of the National Multimodal Freight Policy in 49 U.S.C. 70101(b) and the goals of the NHFP in 23 U.S.C. 167(b). DOT believes strongly that these goals provide essential direction and support for the improvement of freight transportation across all modes.

The State Freight Plans can also be used to communicate the freight performance measurement targets established pursuant to MAP-21, progress and strategies to goal achievement, any extenuating circumstances or other information relevant to this regulatory requirement. [Note: At the time of the release of this Guidance, the comment period for the Notice of Proposed Rulemaking on the freight performance measures was open and DOT was soliciting input on the proposed measures.⁸]

⁸ Federal Highway Administration, Notice of Proposed Rulemaking, National Performance Management Measures; Assessing Performance of the National Highway System, Freight Movement on the Interstate System, and Congestion Mitigation and Air Quality Improvement Program, 81 FR 23806 (April 22, 2016).

The State Freight Plan may be developed as a separate document from, or incorporated into, the Long-Range Statewide Transportation Plan required by 23 U.S.C. 135. If the State Freight Plan is separate from the Long-Range Statewide Transportation Plan,⁹ both the State Freight Plan and the Long-Range Statewide Plan should explain how the projects and actions listed in the State Freight Plan are compatible with and reflected in the Long-Range Statewide Transportation Plan. If the two plans are combined, the Long-Range Statewide Transportation Plan should include a separate section focused on freight transportation and must include the elements specified in 49 U.S.C. 70202.

⁹ 23 U.S.C. 135(f) (Long-Range Statewide Transportation Plan).

Due to the flexibility provided by this guidance to States regarding State Freight Plans, DOT will be reviewing State Freight Plans separately from the Long-Range Statewide Transportation and State Rail Plans, which are governed by other statutes. For consideration of compliance with FAST Act provisions of State Freight Plans, States should submit their State Freight Plans to the Federal Highway Division Office in their State. DOT will review the freight plans for compliance with 49 U.S.C. 70202 and will use them to determine whether a State is eligible to continue to obligate NHFP funds after December 4, 2017.

DOT released a multimodal, draft National Freight Strategic Plan for public comment on October 18, 2015 (see http://www.regulations.gov/#!docketDetail;D=DOT-OST-2015-0248). DOT is updating the draft National Freight Strategic Plan to comply with the requirements under 49 U.S.C. 70102, as enacted by the FAST Act, and to incorporate public comments received. The final National Freight Strategic Plan will be based on the national goals and priorities set forth in 49 U.S.C. 70101, but has and will continue to incorporate, to the extent possible, issues and trends identified in State Freight Plans to capture State and local priorities.

III. Funding

Authorization level under the FAST Act: There is no formula or discretionary funding specifically designated for State Freight Plans or to establish or operate State Freight Advisory Committees. Nevertheless, there are several resources with eligibility to assist in the activities that support these elements of the FAST Act.

States may use funding apportioned under the Surface Transportation Block Grant Program (23 U.S.C. 133) for developing State Freight Plans, as well as funding set aside from apportioned programs for the State Planning and Research Program (23 U.S.C. 505). Similarly, States can use funds from the new NHFP to support freight planning and outreach, including efforts to develop or update State Freight Plans and support State Freight Advisory Committees. They may also use carryover balances from National Highway System (NHS) funds authorized under the Safe, Accountable, Flexible, Efficient Transportation Equity Act: A Legacy for Users (SAFETEA-LU; 23 U.S.C. 103(b)(6)(E) as in effect on the day before enactment of MAP-21) that can be used for transportation planning that benefits the NHS in accordance with 23 U.S.C. 134 and 135 (section 1104 of MAP-21 amended 23 U.S.C. 103, eliminating the National Highway System Program under section 103; however, the carryover balances remain available for planning activities that benefit the NHS).

IV. State Freight Advisory Committees

DOT strongly recommends that States use a collaborative process for freight planning that involves all of the relevant stakeholders acting within or affected by the freight transportation system. To help accomplish this and per guidance found in 49 U.S.C. 70201, DOT strongly encourages States to establish, continue, or expand membership in State Freight Advisory Committees. A forum of this type that is similar from State to State will also facilitate the ability of public and private stakeholders, including but not limited to cargo carriers and logistics companies, and safety, community, energy, and environmental stakeholders, to identify and engage the appropriate freight planning organization in each State. However, DOT emphasizes that the establishment of State Freight Advisory Committees is not required by statute or by DOT. Each State has the option of establishing a State Freight Advisory Committee at its own convenience and subject to its own conditions, though pursuant to 49 U.S.C. 70201(b), the role of each committee shall include at a minimum the items listed in section 70201(b).

As specified in section 8001 of the FAST Act, State Freight Advisory Committees should include representatives of a cross-section of public and private sector freight stakeholders. These might include, but are not limited to, representatives of the following:

• Ports;

• Freight railroads;

• Shippers, freight forwarders;

• Carriers, including carriers operating on their own infrastructure (such as railroads and pipelines) and carriers operating on publicly-owned infrastructure (such as airlines, railroads, trucking companies, ocean carriers, and barge companies);

• Freight-related associations;

• Third-party logistics providers;

• Freight industry workforce;

• The transportation department of the State;

• MPOs, councils of government, regional councils, organizations representing multi-State transportation corridors, tribal governments, and local governments, and regional planning organizations;

• Federal agencies;

• Independent transportation authorities, such as maritime port and airport authorities of varying sizes, toll highway authorities, and bridge and tunnel authorities;

• Safety partners and advocates

• State and local environmental and economic development agencies;

• Other private infrastructure owners, such as pipelines;

• Hazardous material transportation providers;

• Representatives of environmental justice populations potentially affected by freight movement;

• University Transportation Centers and other institutions of higher education with experience in freight.

The inclusion of freight carriers, freight associations, and shipper and logistics companies in State Freight Advisory Committees is essential, as much of the innovation in freight carriage, management, and planning for future systems takes place among these organizations. Planning for freight without consulting with these organizations would constitute a significant gap in understanding the nature of freight needs and concerns. Carriers should represent a range of sizes and specialties, including full truck load, less than truckload, and small package delivery services. Similarly, participation by shipper and logistics companies of different sizes can provide critical information about warehousing and distribution service needs.

DOT strongly encourages States to include representatives from MPOs in freight planning processes because many freight projects are located within metropolitan areas. For that reason, MPOs and State DOTs must be in agreement if such projects are to be included in STIPs and TIPs and Long-Range Metropolitan and Long-Range Statewide Transportation Plans. Similarly, local governments, which often have land use authority in locations of important freight activity, should be included. MPOs, local governments, and civic organizations are concerned about community impacts of freight projects and early collaboration with those organizations during the freight project planning process can help to address concerns and opportunities. For example, community input and engagement with railroad representatives can help identify existing or emerging impacts of growth in rail activity that affect mobility, throughput, and safety at railway-roadway grade crossings. This focus in a State Freight Advisory Committee can help inform strategies and identify areas for investment in a State Freight Plan to resolve conflicts and improve Ladders of Opportunity in communities. Similarly, the inclusion of independent transportation authorities, such as maritime port and airport authorities, toll highway authorities, and bridge and tunnel authorities will help minimize the fragmentation of planning that often occurs due to different authorities acting independently.

The FAST Act made important changes to the Tribal Transportation Program, including (but not limited to) the creation of the Tribal Transportation Self-Governance Program (section 1121 of the FAST Act; 23 U.S.C. 207) that extends many of the self-governance provisions of Title V of the Indian Self-Determination and Education Assistance Act to transportation. Representation of tribal governments in State freight planning is essential to development of a comprehensive State Freight Plan.

State DOTs already coordinate State involvement in both freight and passenger rail operations, and as required under section 330 of the Passenger Rail Investment and Improvement Act (PRIIA), develop FRA-accepted State Rail Plans. Rail, highway, and other modal divisions (pipeline safety, maritime/ports, and aviation airports) within the State DOT, or in other agencies of the State government, should be represented if deemed appropriate by the State. States should also consider the inclusion of other State agencies, including those engaged in law enforcement and emergency planning, which may have the authority to regulate and enforce speed limits on roads and highways, issue permits for higher-weight truck movements and longer combination vehicles (tractor-trailer combinations with two or more trailers) on State roads, and plan for emergency operations. Participation of Federal and State environmental agencies may prove useful in helping project sponsors anticipate and mitigate potential environmental issues that could arise from freight projects. Additionally, these agencies establish and enforce air and water regulations that have important effects on freight transportation. Joint planning with multiple participants within the framework of State Freight Advisory Committees can facilitate better solutions and prevent future conflicts.

States are encouraged to invite representatives from neighboring States and nations (Canada and Mexico, and their subordinate Provinces and States, as appropriate) to participate in State Freight Advisory Committees. They should also consider inviting councils of government and regional councils (if not already represented through the MPO), organizations representing multi-State transportation corridors, and other local and regional planning organizations to participate. Participation by Federal government representatives is also encouraged. These participants can play an important role in coordinating planning and funding for larger freight projects that extend beyond the boundaries of MPOs and States. Similarly, participation by regional economic development offices and State or regional Chambers of Commerce can be beneficial. These organizations may also have recommendations for other participants.

Representatives from the freight transportation industry workforce are critical participants in the freight planning process. Transportation workers provide input in identifying bottlenecks and other inefficiencies, safety problems, methods to respond to freight labor shortages, truck parking capacity and information needs, applications of new technologies, and other factors. Similarly, independent transportation experts, including academic specialists and industry consultants are valuable additions to the planning effort.

In all cases, DOT expects that State Freight Advisory Committee participation will vary from State to State and acknowledges that available funding, State DOT resources, and specific characteristics of a State's freight infrastructure will lead to significant differences in the size and composition of such Committees.

The FAST Act directs that State Freight Advisory Committees shall:

• Advise the State on freight-related priorities, issues, projects, and funding needs;

• Serve as a forum for discussion of State transportation decisions affecting freight mobility;

• Communicate and coordinate regional priorities with other organizations (for example, among a State's DOT, MPOs, tribal and other local planning organizations);

• Promote the sharing of information between the private and public sectors on freight issues; and

• Participate in the development of the State Freight Plan.

DOT notes that the multimodal, multiagency mix of participants recommended above offers an excellent forum for the exchange of information needed to develop the required components of the State Freight Plan (described in more detail below), such as in the identification of significant freight system trends, needs, and issues with respect to the State; a description of how innovative technologies and operational strategies, including freight intelligent transportation systems, that improve the safety and efficiency of freight movement are considered (the private sector is leading the way in the deployment of connected, automated and autonomous systems); creating an inventory of facilities with freight mobility issues, such as bottlenecks; development of strategies to mitigate that congestion or delay; and development of freight investment plans that combine public and private funding.

The identification of problems and opportunities in a multimodal forum can lead to innovative solutions that may never rise to the level of a State Freight Plan priority. By facilitating State, MPO, and local government access to highly skilled agency and private freight expertise, the Committee focuses and facilitates government efforts to incorporate freight into day-to-day planning efforts and raise the visibility of freight issues to levels not previously achieved. For this reason, DOT recommends that State Freight Advisory Committees meet on a regular basis, not solely for the purpose of developing or revising a State Freight Plan.

DOT notes that if a State is establishing or updating a State Freight Plan and also has opted to create a State Freight Advisory Committee, 49 U.S.C. 70202 requires that the State must consult with its State Freight Advisory Committee on the State Freight Plan. DOT believes that it will in almost all cases be more constructive to prepare a useful State Freight Plan based on State Freight Advisory Committee review and input. The FAST Act does not require, however, that a State Freight Advisory Committee be established or provide its approval for a State Freight Plan to become final. As such, the authority of the State to go forward with a State Freight Plan is not diminished by establishing a Committee. A State Freight Advisory Committee is advisory in nature and is not subject to Federal open meeting laws, though State open meeting laws may apply. DOT strongly encourages States to conduct State Freight Advisory Committee business in an open manner so that interested persons are able to observe any meeting of the Committee and be afforded opportunities to provide input.

The FAST Act, through 23 U.S.C. 167(d)(2), provides that the Federal Highway Administrator, in re-designating the Primary Highway Freight System, shall provide an opportunity for State Freight Advisory Committees, as applicable, to submit additional route miles for consideration. Similarly, 49 U.S.C. 70103(c)(2)(j) authorizes the Under Secretary of Transportation to consider recommendations by State Freight Advisory Committees for facilities to be included on the National Multimodal Freight Network. DOT notes that States are not statutorily constrained from placing requirements in the charters of their State Freight Advisory Committees to require State consensus with such Committee recommendations for such facilities to the Under Secretary or the Administrator.¹⁰

¹⁰ The charter for the California Freight Advisory Committee (http://dot.ca.gov/hq/tpp/offices/ogm/CFAC/Final_CFAC_Charter_062813_3.pdf) is one example of a State Freight Advisory Committee charter that conforms to good practice, providing for committee membership, responsibilities, frequency of meetings, decision processes, reporting, etc. States can, of course, vary from this format, but DOT strongly recommends the development of a charter document.

V. State Freight Plans—Required Elements

Beginning on December 4, 2017, to be eligible to obligate Federal funds provided through the NHFP (23 U.S.C. 167), the FAST Act requires that a State has developed a State Freight Plan that provides a comprehensive plan for the immediate and long-range planning activities and investments of the State with respect to freight (49 U.S.C. 70202), except that multimodal elements of the plan need not be complete (23 U.S.C. 167(i)(4)).

DOT recognizes that many States have recently published State Freight Plans or are in the process of updating their State Freight Plans to be compliant with MAP-21 requirements. DOT emphasizes that those Plans can be updated (including by amendment) to be compliant with the FAST Act requirements. The required elements of State Freight Plans under section 1118 of MAP-21 and under 49 U.S.C. 70202, as amended by the FAST Act, are similar and are listed below. However, there are several additional requirements added under the FAST Act, meaning that all MAP-21 compliant State Freight Plans must be updated to include these requirements if they are not already in the plans. These new requirements have been highlighted in bold:

1. An identification of significant freight system trends, needs, and issues with respect to the State;

2. A description of the freight policies, strategies, and performance measures that will guide the freight-related transportation investment decisions of the State;

3. When applicable, a listing of—

• multimodal critical rural freight facilities and corridors designated within the State under section 70103 of title 49 (National Multimodal Freight Network);

• critical rural and urban freight corridors designated within the State under section 167 of title 23 (National Highway Freight Program);

4. A description of how the plan will improve the ability of the State to meet the national multimodal freight policy goals described in section 70101(b) of title 49, United States Code and the national highway freight program goals described in section 167 of title 23;

5. A description of how innovative technologies and operational strategies, including freight intelligent transportation systems, that improve the safety and efficiency of the freight movement, were considered;

6. In the case of roadways on which travel by heavy vehicles (including mining, agricultural, energy cargo or equipment, and timber vehicles) is projected to substantially deteriorate the condition of the roadways, a description of improvements that may be required to reduce or impede the deterioration;

7. An inventory of facilities with freight mobility issues, such as bottlenecks, within the State, and for those facilities that are State owned or operated, a description of the strategies the State is employing to address those freight mobility issues;

8. Consideration of any significant congestion or delay caused by freight movements and any strategies to mitigate that congestion or delay;

9. A freight investment plan that, subject to 49 U.S.C. 70202(c), includes a list of priority projects and describes how funds made available to carry out 23 U.S.C. 167 would be invested and matched; and

10. Consultation with the State Freight Advisory Committee, if applicable.

State Freight Plans issued prior to section 1118 of MAP-21 may need substantial modification to comply with the FAST Act if they were not previously updated for MAP-21. In this instance, issuance of a new consolidated FAST Act-compliant State Freight Plan is strongly encouraged; however, the new plan could make extensive use of material from a prior State Freight Plan.

The action of amending or updating a State Freight Plan to comply with the FAST Act will constitute a formal update of the plan and would restart the clock for submitting an updated State Freight Plan, which must be updated at least once every 5 years.

DOT wishes to emphasize that the elements listed in 49 U.S.C. 70202 (which are shown above) are the only required elements of State Freight Plans. Each element, as it relates to highways, must be addressed if a State wishes to obligate NHFP funds available under 23 U.S.C. 167 after December 4, 2017. Note that if a State wishes to obligate NHFP funds for a freight intermodal or freight rail project, that project must be included in the fiscally constrained freight investment plan as well. As long as State Freight Plans cover the required elements, they may be organized in any structure that works best for individual States.

For States that have neither developed nor recently updated their State Freight Plan to reflect MAP-21 requirements and are looking for a possible model to address the FAST Act requirements, DOT suggests the following structure as a possible, but not mandated, model that States can follow to address all of the statutorily required criteria:

1. Identification and Inventory of Freight System:

a. An identification of significant freight system trends, needs, and issues with respect to the State;

b. An inventory of facilities with freight mobility issues, such as bottlenecks, within the State;

c. When applicable, a listing of—

i. Multimodal critical rural freight facilities and corridors designated within the State under section 70103 of title 49; and

ii. Critical rural and urban freight corridors designated within the State under 23 U.S.C. 167;

2. Consideration of any significant congestion or delay caused by freight movements and any strategies to mitigate that congestion or delay;

3. Description of Policies, Goals and Strategies:

a. A description of the freight policies, strategies, and performance measures that will guide the freight-related transportation investment decisions of the States;

b. A description of how the Plan will improve the ability of the State to meet the National Multimodal Freight Policy goals described in 49 U.S.C. 70101(b) and the NHFP goals described in 23 U.S.C. 167(b);

c. In the case of roadways on which travel by heavy vehicles (including mining, agricultural, energy cargo or equipment, and timber vehicles) is projected to substantially deteriorate the condition of the roadways, a description of improvements that may be required to reduce or impede the deterioration;

d. For those facilities that are State-owned or operated, a description of the strategies the State is employing to address the freight mobility issues;

e. A description of strategies to mitigate any significant congestion or delay caused by freight movements;

f. A description of how innovative technologies and operational strategies, including freight intelligent transportation systems, that improve the safety and efficiency of freight movement, were considered;

4. A freight investment plan that, subject to 49 U.S.C. 70202(c), includes a list of priority projects and describes how funds made available to carry out 23 U.S.C. 167 would be invested and matched; ¹¹ and

¹¹ States must include in their State Freight Plan any facility, highway or otherwise, on which they intend to use NHFP funding, in that 23 U.S.C. Section 167(i)(5)(ii) requires an eligible project for such funding to be identified in a freight investment plan included in a freight plan of the State that is in effect.

5. Demonstration of consultation with the State Freight Advisory Committee, if applicable.

This optional organizational scheme does not change or reduce the statutorily-required elements of the State Freight Plan, but merely provides one possible structure that allows for consolidation of related elements and information. As noted previously, States have flexibility to follow any structure they wish as long as they contain the statutorily required elements noted above.

VI. State Freight Plans—Optional Elements

DOT reiterates that the only elements that State Freight Plans must include are those identified in the statute and outlined in the previous section “V. STATE FREIGHT PLANS—Required Elements.” This section (SECTION VI) suggests optional methods by which States might respond to the above requirements and identifies a number of other items that States may consider including in their State Freight Plans. These items have been identified through a review of research papers, studies of best industry practices, and State Freight Plans that were completed immediately following MAP-21. DOT is providing this information to help inform each State's freight planning process; but ultimately, it is up to each State to determine which if any of these additional elements to include.

A State Freight Plan must address a 5-year forecast period, although DOT strongly encourages an outlook of two decades or more. While the FAST Act provides that “A State freight plan described in subsection (a) shall address a 5-year forecast period” (49 U.S.C. 70202(d)), the Act also states that the plan should provide “a comprehensive plan for the immediate and long-range planning activities and investments of the State with respect to freight” (49 U.S.C. 70202(a)). In almost all transportation planning exercises, long-range planning necessarily exceeds a period of 5 years. DOT notes that a freight plan horizon of only 5 years would not enable States to do more than list present problems and projects already in the development pipeline, without respect to longer-term trends and new technologies. In summary, whereas a planning forecast of 5 years is sufficient (and must be provided) to meet the statutory requirement, longer outlooks supplementing the five year forecast are strongly recommended for the overall State Freight Plan—if possible, corresponding at least to the 20-year outlook of the Long-Range Metropolitan and Long-Range Statewide Transportation Plans. Carefully developed forecasts of freight movements will be essential to the success of a freight plan whether it cover a 5-year period, a 20-year period or longer timeframe. For example, it will be important to have accurate estimates of freight moving along a particular corridor and the numbers of trucks, trains, etc. associated with moving that freight in an efficient manner in order to select the most appropriate project or projects for that corridor. Improved freight travel modeling is necessary for estimating freight emissions accurately and to better inform alternatives analysis for freight projects, including multi-modal freight planning. To assist States in long term freight planning Section VIII of this guidance contains a number of data and analysis sources that may prove useful. DOT continues to support further improvements in freight modeling through its freight model improvement program.

A special exception to this guidance on a 20-year outlook periods applies to the fiscally constrained Freight Investment Plan component of the State Freight Plan (49 U.S.C. 70202(c)), which addresses the NHFP funding timeframe and can be updated more frequently than the five-year requirement for the entire State Freight Plan. Fiscal constraint requires that revenues in transportation planning and programming (Federal, State, local, and private) are identified and “are reasonably expected to be available” to implement the Long-Range Metropolitan Transportation Plan and the STIP/TIP, while providing for the operation and maintenance of the existing highway and transit systems. In addition, revenues must be “available or committed” for the first 2 years of a TIP/STIP in air quality nonattainment and maintenance areas (23 CFR 450.324(e) and 23 CFR 450.216(a)(5)). Long-Range Statewide Transportation Plans are not required to be fiscally constrained, however; and in some cases, States may not be able to provide a fiscally-constrained state-wide list of freight projects exceeding the planning period of the STIP. Thus, DOT recommends the Freight Investment Plan, at a minimum, be carefully aligned with the TIP and STIP documents for the respective State. Aligning this investment plan with the above-referenced documents enhances the State's ability to better prioritize their freight projects and ensures coordination between the State DOT and the MPOs. States may opt to extend the period of their Freight Investment Plans to longer intervals, including 20-year periods that correspond to the Statewide and metropolitan long-range plans, if this would help them for freight-planning purposes.

The FAST Act does not provide instructions on the volume of the information to be included or the thoroughness of a State Freight Plan. DOT notes that the contents of the State Freight Plan and its necessary components should comply with what a State determines is needed to guide planning and investment activities. Many States have already prepared State Freight Plans in response to section 1118 of MAP-21 that provide extensive multimodal and other useful information in keeping with the goal of improving their freight planning. DOT supports these State efforts to improve their freight planning and invites the inclusion of any aspects of freight planning that a State believes add value to its planning effort in addition to addressing the required components of the FAST Act.

DOT has organized this section around the statutory requirements of 49 U.S.C. 70202 to provide context for where optional elements can supplement the required elements. Bold items are the statutory requirements described in Section V; non-bold items are the optional elements, or clarifying statements.

1. An identification of significant freight system trends, needs, and issues with respect to the State;

States have broad flexibility in addressing the trends, needs, and issues of their freight systems. To enhance the identification of these issues, DOT recommends, but does not require, that the State Freight Plan begin with a discussion of the role that freight transportation plays in the State's overall economy, and how the economy is projected to grow or change. This section could identify those industries which are most important to the economy of the State and the specific freight transportation modes and facilities most vital to the supply chains of these industries. The discussion could address the key issues confronting the freight system, both in the present and anticipated in the future, such as needs to improve safety and reduce impacts of freight movement on communities, particularly minority and low-income communities, and the environment, as well as future transportation labor force challenges. This could include assessing the following: The benefits and burdens of freight movements, including air quality, noise, and vibration impacts; effects on community connectivity and cohesion; impacts of longer and more frequent trains at roadway/rail grade crossings; truck parking capacity and information; hazardous material transportation and emergency response capability; and areas with high levels of pedestrian and bicycle activity. Many of these issues can be identified through the State Freight Advisory Committee (if one has been established). In most instances, the State will also have identified critical freight issues in studies conducted through State agencies, MPOs, and academic or research institutions. Additionally, there are many national studies (such as through the Transportation Research Board of the National Academies of Science, Engineering and Medicine) and frequently, local case studies that focus on emerging freight problems, such as last mile delivery issues, that will be relevant to many States.

The following are possible items to consider when identifying the economic trends and forecasts that will affect freight: ¹²

¹² There are many Transportation Research Board publications that can assist States in evaluation freight system trends and needs. Among them are NCFRP Report 8, Freight-Demand Modeling to Support Public-Sector Decision Making; NCHRP Report 606, Forecasting Statewide Freight Toolkit; NCHRP Report 388, A Guidebook for Forecasting Freight Transportation Demand; SHRP 2 Capacity Project C43, Innovations in Freight Demand Modeling and Data Improvement; NCHRP Report 750, Strategic Issues Facing Transportation, Volume 1: Scenario Planning for Freight Transportation Infrastructure Investment; and others. (See: http://www.trb.org/FreightTransportation/FreightTransportation2.aspx).

• Global, national, regional, and local economic conditions and outlooks, particularly those of the State, neighboring States or countries, and principal trading partners;

• Population growth and location;

• Income and employment by industry and service sector, including the expected employment by each sector of the transportation industry;

• Freight attributes of industry and service sectors (including heavy freight, less than truckload freight, and small package delivery);

• Type, value, and quantity of imports and exports;

• Industrial and agricultural production forecasts; and

• Forecasts of freight movements by commodity type and location, including small package deliveries associated with e-commerce, and projected port or rail freight activity.

DOT notes that when there is a high degree of uncertainty about future economic, industrial, and technological conditions, (e.g., changing energy markets, deployment of connected and autonomous freight vehicles), approaches, such as scenario planning, can help to develop alternative outlooks and investments that can accommodate more than one future outlook.

DOT recommends that the State Freight Plan describe the conditions and performance of the State's freight transportation system, including trends in conditions and performance. This analysis, if the State chooses to do it, would help to identify needs for future investment within the State. If a State has already conducted an analysis of the conditions and performance of its overall public infrastructure, that analysis could be referenced or incorporated into the State Freight Plan in so far as it pertains to the freight system.¹³ Similarly, States may be able to develop such measures from State asset management systems, Highway Performance Monitoring System data, Level of Service data from Transportation Management Centers, National Performance Management Research Data Sets (NPMRDS), or other sources. It is recommended that the performance measures used correspond to those required under Item 2 (“A description of freight policies, strategies, and performance measures”) below.

¹³ Section 1203 of MAP-21 amended 23 U.S.C. 150 to require the establishment of performance management measures, some of which pertain specifically to freight movement. As of the issuance of this State Freight Plan guidance, some of these measures have not yet been finalized. For the purpose of the optional presentation of conditions and performance in the State Freight Plan, States may use any measure of conditions and performance already in use in the State.

Information on the condition and performance of private infrastructure is also encouraged, although it is acknowledged that this information is more difficult to obtain. State Rail Plans and other sources could be used to gather information on some aspects of freight rail and rail bridge data (e.g., miles and locations of freight rail that can carry cars weighing 286,000 pounds or greater, tunnel heights adequate for double stack rail cars, dual track sections). Similarly, States may have commissioned reports on port and waterway conditions, or may be able to establish performance conditions. Metrics for States to assess truck parking capacity are offered for consideration in the summary report on the Jason's Law survey, available here: http://www.ops.fhwa.dot.gov/freight/infrastructure/truck_parking/jasons_law/truckparkingsurvey/index.htm.

Data on port and waterway conditions and performance may also be available from port authorities, in Port Master Plans, or from automatic identification systems (AIS) for vessels and Global Positioning System (GPS) probe data for trucks in port areas and operating on port access roads. More information about performance data for measuring mobility for non-highway modes is provided in Item 7, “An inventory of facilities with freight mobility issues,” below.

DOT acknowledges, however, that the FAST Act does not specifically require condition and performance data in State Freight Plans. States are not required or expected to undertake such an evaluation solely for the purpose of informing the State Freight Plan.

2. A description of freight policies, strategies, and performance measures that will guide the freight-related transportation investment decisions of the State;

This section of the State Freight Plan is important for providing the overall approach the State will take to address the challenges described in the preceding section. The policies and strategies in the State Freight Plan are likely to reflect a mix of State legislative direction, discretionary decisions by State DOTs and other State agencies, decisions by other States, plans by MPOs, local and tribal governments, special transportation authorities (including port, airport, and toll authorities); and the accommodation of plans by private sector companies, such as railroads, marine terminal operators, pipeline companies, trucking companies, and others. It is recommended that the State Freight Plan also identify any statutory and State constitutional constraints on freight-related investments and policies, such as prohibitions on spending State funds on certain kinds of infrastructure. The State could also discuss regional freight planning activities in which the State participates, identify freight-related institutions within the State, and explain the governance structures and funding mechanisms for such institutions.

DOT recommends that the State explain how it will measure the success of its strategies, policies, and investments in achieving the goals and objectives of the Plan. Such measurements may be qualitative, but preferably would be quantifiable and consistent with the measures (if any) used by the State to describe the conditions and performance of the freight infrastructure (including measures of pavement and bridge condition, traffic congestion and travel time, safety, emissions and water quality, and other factors). Where possible, the State should consider the use of performance measures in the State Freight Plan that are consistent with those used in other State planning documents and in reports and grant requests submitted to the Federal government. These would allow a State to determine if it is achieving its objectives and to quantify and assess outputs and outcomes relative to expectations.

3. When applicable, a listing of—

a. Multimodal critical rural freight facilities and corridors designated within the State under section 70103 of title 49; and

b. Critical rural and urban freight corridors designated within the State under section 167 of title 23;

Compliance with this requirement of the FAST Act is straightforward: If these corridors have been designated pursuant to the FAST Act, they should be included in the State Freight Plan. Therefore, Plans may need to be capable of being updated if or as these corridors are changed or redesignated. DOT also suggests, but does not require, States to provide an inventory of the State's freight transportation assets, both publicly and privately owned, that it deems most significant for its freight planning purposes. This optional list could include elements not included in the National Highway Freight Network or the National Multimodal Freight Network, such as locally important freight roads and bridges not on these networks, short line railroads, smaller border crossings, water (including port) facilities, waterways, pipeline terminals, smaller airports, etc. It also could include warehousing, freight transfer facilities, and foreign trade zones located in the State.

4. A description of how the plan will improve the ability of the State to meet the national multimodal freight policy goals described in section 70101(b) of title 49 and the national highway freight program goals described in section 167 of title 23;

DOT notes that the goals of the National Multimodal Freight Policy are extensive and pertain to the National Multimodal Freight Network (49 U.S.C. 70103). These goals are to:

(1) Identify infrastructure improvements, policies, and operational innovations that strengthen the contribution of the National Multimodal Freight Network to the economic competitiveness of the United States, reduce congestion and eliminate bottlenecks on the National Multimodal Freight Network, and increase productivity, particularly for domestic industries and businesses that create high-value jobs;

(2) Improve the safety, security, efficiency, and resiliency of multimodal freight transportation;

(3) Achieve and maintain a state of good repair on the National Multimodal Freight Network;

(4) Use innovation and advanced technology to improve the safety, efficiency, and reliability of the National Multimodal Freight Network;

(5) Improve the economic efficiency and productivity of the National Multimodal Freight Network;

(6) Improve the reliability of freight transportation;

(7) Improve the short- and long-distance movement of goods that travel across rural areas between population centers, travel between rural areas and population centers, and travel from the Nation's ports, airports, and gateways to the National Multimodal Freight Network;

(8) Improve the flexibility of States to support multi-State corridor planning and the creation of multi-State organizations to increase the ability of States to address multimodal freight connectivity;

(9) Reduce the adverse environmental impacts of freight movement on the National Multimodal Freight Network; and

(10) Pursue the goals described in this subsection in a manner that is not burdensome to State and local governments.

The goals of the NHFP (23 U.S.C. 167(b)) are similar, but focus on investing in infrastructure improvements and implementing operational improvements on the highways of the United States.

It is noteworthy that the National Multimodal Freight Policy goals are more comprehensive of freight transportation issues than are the required elements of State Freight Plans. States should strongly consider emphasizing aspects of their State goals and strategies intended to improve safety, security, and resiliency of the freight system, including through the use of enhanced designs, technologies, and multimodal strategies. Safety in particular is of paramount concern to the public and policy makers with more than 4,500 freight-related fatalities nationally in 2013.¹⁴ New technologies offer great potential to reduce or even eliminate fatalities over the next several decades, but more conventional investments in safety are also highly effective in reducing accident risk.

¹⁴ See Table 6.1 in Freight Facts and Figures 2015, http://www.rita.dot.gov/bts/sites/rita.dot.gov.bts/files/data_and_statistics/by_subject/freight/freight_facts_2015/chapter6/table6_1

It would be particularly informative to address how the State is addressing the role of climate change, which is increasingly likely to adversely affect the safety, reliability, and resiliency of the freight transportation system. Similarly, strong consideration should be given to describing how the State plans to mitigate the effects of freight transportation on communities, particularly minority and low-income communities, and the environment. They are encouraged to discuss plans to reduce noise, vibration, air, light pollution, barriers to movements in communities, etc. and provide information on freight investments that are intended to support economic opportunities for disadvantaged and low-income individuals, veterans, seniors, youths, and others with local workforce training, employment centers, health care, and other vital services.

Although not cited as a component of the National Multimodal Freight Policy or the NHFP goals, States are invited to provide information on how they will seek to develop and maintain an adequate workforce for the freight transportation industry, including opportunities for small and disadvantaged business enterprises.

DOT recommends that these goals be addressed sequentially in the State Freight Plan, but this is not mandatory. Where possible, DOT recommends that State goals and policies (addressed under Item 2, “A description of freight policies, strategies, and performance measures,” above) should be associated with comparable components of the National Multimodal Freight Policy and the NHFP. DOT also recommends that each State identify which goals it believes to be most important and merit the largest focus. DOT acknowledges that a State may not have specific goals or investments pertaining to all elements of the National Multimodal Freight Policy or the NHFP and notes that this is not required for a compliant State Freight Plan.

5. A description of how innovative technologies and operational strategies, including freight intelligent transportation systems, that improve the safety and efficiency of freight movement, were considered;

In the last few years, the deployment of advanced driver assistance programs has accelerated rapidly. Connected autonomous vehicles, including trucks, will become increasingly common in the coming decades. Intermodal transfers will increasingly be automated at ports and inland facilities. These and other technologies, including intelligent transportation systems, promise to greatly improve the safety and efficiency of freight and passenger movements. They will enable freight carriers of all modes and passenger cars and trains to make safer and more efficient use of existing infrastructure capacity due to fewer collisions, more efficient and coordinated vehicle operations, and the ability to rapidly route around congested locations, including corridors with significant transit lines and high pedestrian and bicycle traffic. Freight mobility integration into communities with Complete Streets policies can reduce bicycle and pedestrian fatalities and injuries, and aid States in meeting new Safety Performance Measures. Safety improvements are already being realized through features such as automated braking and lane departure warning systems, but impacts will become much more pronounced over the next 10-20 years. As such, DOT strongly encourages States, when developing or updating their State Freight Plans, to thoroughly explore the abilities of these new technologies and how they will affect the need to modify or expand existing infrastructure.

The private sector has been leading the way with regard to applications of advanced driver assistance systems, large data sets to plan and coordinate vehicle and freight logistics, new vehicle and engine technologies, unmanned aircraft and ground systems, and many other innovative applications of technology. As such, it would be remarkably difficult to develop a credible forecast of the use of innovative technologies and operational strategies within a State or across its borders without extensive consultation with private terminal operators, freight carriers, third party logistics providers, academic institutions, and other participants in the freight transportation system. Forums such as State Freight Advisory Committees provide excellent opportunities for State and other public entities to consult with private interests to acquire information on their expected rate of adoption of new technologies, how these technologies will impact the freight system, and the means by with the public sector can best accommodate them with infrastructure investments, intelligent transportation system deployment investments, and regulatory support.

Special studies done by agency experts, consultants, and State academic institutions are a valuable source of information in the development and deployment of Vehicle to Vehicle (V2V) and Vehicle to Infrastructure (V2I) technologies.¹⁵ Familiarity with the technology plans of other neighboring States, including through participation in their State Freight Advisory Committees or regional or corridor-based freight groups, will help to promote the use of compatible intelligent transportation systems for multistate system users. Ultimately, however, consultation with private sector interests about these technologies will help to ensure that public investments support private needs both within the State and across multistate regions.

¹⁵ For example: http://www.its.dot.gov/evaluation/evaluation_deployment.htm.

6. In the case of roadways on which travel by heavy vehicles (including mining, agricultural, energy cargo or equipment, and timber vehicles) is projected to substantially deteriorate the condition of the roadways, a description of improvements that may be required to reduce or impede the deterioration;

The recent energy boom in the United States led to a tremendous increase in the exploration and production of energy resources. The heavy trucks and freight flows necessary to support the energy boom have in some cases led to accelerated deterioration of roads and bridges not originally built for large volumes of heavy trucks. These adverse impacts can be significant. Movement of agricultural products, lumber, and coal by trucks at overweight conditions can also contribute to road and bridge damage, as can some heavy containers handled through U.S. ports. Of course, not all States will be impacted in similar ways. DOT recommends that State Freight Plans make use of existing research, to the extent possible, to address the impacts of heavy vehicles.¹⁶

¹⁶ For example, Texas DOT made use of information developed by its Energy Sector Impacts Task Force and other sources to inform its State Freight Plan. See the following for more information: Texas Department of Transportation, Task Force on Texas' Energy Sector Roadway Needs, Report to the Texas Transportation Commission, December 13, 2012, http://ftp.dot.state.tx.us/pub/txdot-info/energy/final_report.pdf; Texas Department of Transportation, Texas Freight Mobility Plan, Final, January 25, 2016.

In general, the State Freight Plan should address the problems and strategies to manage heavy freight vehicles on roadways. This analysis can also consider the viability of shifting heavy freight to modes other than highways. DOT recommends, but does not require, that the State Freight Plan address special needs of waterways, ports, and railways to accommodate vessels and trains used to move very heavy resource-related materials.

7. An inventory of facilities with freight mobility issues, such as bottlenecks, within the State, and for those facilities that are State owned or operated, a description of strategies the State is employing to address the freight mobility issues;

The statute does not provide specific instructions as to what qualifies as a significant mobility impediment or bottleneck, leaving this determination to the State. States have a significant degree of flexibility to determine which facilities most concern them based on methods they employ to measure mobility. State Freight Plans may emphasize the identification of freight facilities that will likely be on the National Highway Freight Network and the National Multimodal Freight Network, but States are encouraged to identify any significant intermodal connector/first- and last-mile or other mobility problems even if not on these networks. States are strongly encouraged to describe mobility issues associated with non-highway modes, particularly when occurring on the National Multimodal Freight Network established under the FAST Act (49 U.S.C. 70103). States are also strongly encouraged to consider freight mobility areas occurring in urban settings that affect multiple transportation users including transit riders, bicyclists, and pedestrians.

Performance measurement to understand freight flows and bottlenecks is important for understanding where investments, both operational and capital, could best help improve the freight network. In the discussion of Item 1, “An identification of significant freight system trends,” DOT describes various forms of performance metrics available to States. However, with regard to measuring freight mobility, DOT also recommends consideration of methods that address the fluidity of freight movement through the use of multimodal data and analysis to understand source to destination freight trips. Many States have used truck probe data and truck counts to evaluate freight performance at the facility level. DOT and partners are making available resources for data and approaches to help with fluidity analyses that better illuminate freight bottlenecks at the system level, including through use of data provided by the private sector. As of yet, however, applications of fluidity measures are limited by a lack of data.

Until consistent national-level freight fluidity data are available, DOT notes that there are numerous potential sources of information on facilities with freight mobility issues. One particularly valuable resource is the State Freight Advisory Committee. Public and private participants in the State Freight Advisory committee will often have first-hand, specific data about freight mobility problems in and on public and private facilities throughout the State. A number of States, MPOs, and regional or corridor coalitions have developed detailed studies of mobility problems and solutions. States may also consult reports about the locations of major highway freight bottlenecks issued periodically by the American Transportation Research Institute (ATRI).¹⁷

¹⁷ ATRI, Congestion Impact Analysis of Freight Significant Highway Locations—2015, http://atri-online.org/2015/11/18/congestion-impact-analysis-of-freight-significant-highway-locations-2015/.

Information about railroad bottlenecks may be available in State Rail Plans, or through consultation with railroads serving the State. Similarly, MPOs can provide information about locations where railroad-highway crossings or railroad-railroad crossings create congestion for vehicles, trains, pedestrians, and non-motorized vehicles, including bicycles. Railroad unions may be able to share important concerns about bottlenecks. DOT notes that, because railroad freight and railroad-highway grade crossing and separation projects are eligible for funding under the Nationally Significant Freight and Highway Projects (FASTLANE Grants) program and the NHFP, railroads will have significant new incentives to participate in multimodal freight planning at a State, MPO, and local level.

Port authorities, either participating through State Freight Advisory Committees, MPOs, or in direct consultation with the State, can provide valuable information about mobility and other constraints facing the port, including landside connections to highway and railroad systems, as well as connections to inland waterway systems and pipelines. Their Master Plans and other planning documents can also provide forecasted volumes that are useful for predicting where future mobility and other constraints may occur. In some States, the State DOT is responsible for port investments and will already have mobility issues identified. Port and maritime labor organizations, marine terminal operators, barge and vessel operators, and maritime and port industry associations can be accessed directly to identify facilities with mobility constraints or collectively through State Freight Advisory Committees.

All aspects of the energy transportation pipeline industry are regulated to some extent by Federal and State agencies, which may be able to provide information on congested segments and facilities. Similarly, pipeline operators and their associations may contribute useful information. Potential methods to present solutions to the mobility problems are identified in the next section, immediately below.

8. Consideration of any significant congestion or delay caused by freight movements and any strategies to mitigate that congestion or delay;

Once locations of facilities with mobility impediments to freight movement are identified, State DOTs may make quantitative or qualitative assessments of delay to freight movements on both local and network bases and the extent to which freight is a major contributor to the delay. Strategies to address congestion and delay can be drawn from any source preferred by the State, including pre-existing evaluations and plans, but States are encouraged to consider network effects of mitigation actions, and where possible, to look to a broad mix of solutions, including adding multimodal capacity, improved intelligent transportation systems and technological solutions, changed operating procedures (e.g., longer port gate hours), incentives to use off-peak delivery times, regulatory changes to eliminate impediments to improved efficiency (e.g., removing regulatory barriers to connected autonomous vehicles), and multimodal approaches to resolve freight congestion problems.

Consultation with the various parties participating in the State-wide assessment of mobility impediments can yield essential information about alternatives not previously considered, and, as noted earlier, can inform States about rapidly emerging technology deployments in the private sector. Private freight carriers may also share their plans to address rail, port, waterway, pipeline, and air cargo capacity problems, which may affect State plans for highway capacity projects linked to these facilities or otherwise affected by them.

9. A freight investment plan that, subject to 49 U.S.C. 70202(c)(2), includes a list of priority projects and describes how funds made available to carry out section 167 of title 23 would be invested and matched;

As required in 49 U.S.C 70202(c)(2), the freight investment plan component shall include a project, or identified phase of a project, only if funding for completion of the project can be reasonably anticipated to be available for the project within the time period identified in the freight investment plan. In the State Freight Plan, the term “fiscally-constrained” has the same meaning as is applied to TIPs and STIPs. Multi-state projects would require coordination of the States involved such that the project is accurately and consistently reflected in each State's Freight Plan.

All freight projects that are included in the State Freight Plan and which involve the expenditure of public funds should necessarily be included in TIPs, STIP, and be consistent with Long-Range Metropolitan and Statewide Transportation Plans. To the extent that States have prepared economic analysis for specific projects, DOT encourages States to consider the results of those analyses when determining which projects are included on their freight investment plan, and also to refer to the results of benefit-cost analyses, as appropriate, when and if the project is mentioned in the State Freight Plan.

10. Consultation with the State Freight Advisory Committee, if applicable.

Each State should provide information summarizing its consultation efforts with their State Freight Advisory Committee (if one has been established). Possible methods of doing this are to reference or summarize minutes of the meetings of the Committee with regard to discussions of the State Freight Plan. Other methods are acceptable, including the incorporation of a written position paper from the State Freight Advisory Committee. DOT notes that there is no statutory requirement that a State Freight Advisory Committee must approve a State Freight Plan.

VII. Other Encouragements

DOT encourages each State to designate a freight transportation coordinator to facilitate effective communication with the FHWA Division Office in that State regarding the submission of State Freight Plans and freight investment plans. A point of contact can help streamline information exchange with the operating administrations of DOT and freight stakeholders, and help ensure that freight transportation needs are given adequate consideration in the transportation planning process. Within a State Freight Plan, States may provide DOT with information as to how they are organized to plan and implement freight programs across the network of highways, rail lines, waterways, airports, maritime ports, and distribution centers that constitute the multimodal freight system in their State.

This point of contact would also be useful in managing the flow of information between the State and DOT on other FAST Act elements, such as the designation of critical urban freight corridors, critical rural freight corridors, changes to the Primary Highway Freight System, and inputs to the National Freight Strategic Plan and National Multimodal Freight Network. The DOT-designated Marine Highway Network is also included on the Interim National Multimodal Freight Network, and the State points of contact can request edits or amendments to that network by contacting the Maritime Administration's Gateway Directors.¹⁸

¹⁸ Contact information for the Gateway Directors is available at http://www.marad.dot.gov/about-us/gateway-offices/.

VIII. Data and Analytical Resources for State Freight Planning

The operating administrations of DOT and other departments in the U.S. Government provide a wide range of data and analysis resources to assist States in the freight planning process. The following is a series of links to Internet Web sites that provide useful data and analysis resources:

General Data and Analysis Sources on Freight

DOT Freight Web site: http://www.freight.dot.gov/

Freight Analysis Framework, incorporating data from the BTS Commodity Flow Survey and TransBorder Freight Data; Census Foreign Trade Statistics; U.S. Army Corps of Engineers Waterborne Commerce Statistics; and other sources: http://www.rita.dot.gov/bts/sites/rita.dot.gov.bts/files/subject_areas/freight_transportation/faf and http://www.ops.fhwa.dot.gov/freight/freight_analysis/faf/index.htm

Commodity Flow Survey: http://www.bts.gov/publications/commodity_flow_survey/

Data on Demographics and Economic Censuses

http://factfinder.census.gov/faces/nav/jsf/pages/index.xhtml

National Transportation Atlas Database, GIS files across all modes: http://www.rita.dot.gov/bts/sites/rita.dot.gov.bts/files/publications/national_transportation_atlas_database/index.html

State Statistics: http://www.rita.dot.gov/bts/publications/state_transportation_statistics and http://gis.rita.dot.gov/StateFacts/

North American Industry Classification System (NAICS): http://www.census.gov/eos/www/naics/

Data Sources Related to Freight Transportation: http://www.ops.fhwa.dot.gov/freight/freight_analysis/data_sources/index.htm and http://www.rita.dot.gov/bts/data_and_statistics/by_subject/freight.html

Freight Performance Measures: http://www.ops.fhwa.dot.gov/freight/freight_analysis/travel_time.htm

Quick Response Freight Manual: http://www.ops.fhwa.dot.gov/freight/publications/qrfm2/index.htm

Examples of existing State Freight Plans (none are compliant with the FAST Act as of the issuance of this draft guidance): http://www.ops.fhwa.dot.gov/freight/resources/frt_solutions/index.htm#freight_plans

Truck Parking Information and Metrics for Assessing Truck Parking Capacity (Jason's Law): http://www.ops.fhwa.dot.gov/freight/infrastructure/truck_parking/index.htm

International Statistics

USA Trade Online—Census Foreign Trade Statistics: https://usatrade.census.gov/

International Trade Data and Analysis

http://trade.gov/data.asp

North American Transborder Freight Data: http://transborder.bts.gov/programs/international/transborder/

Border Crossing/Entry Data: http://transborder.bts.gov/programs/international/transborder/TBDR_BC/TBDR_BC_Index.html

Maritime Data and Statistics

Navigation Data Center, Waterborne Commerce Statistics Center, U.S. Army Corps of Engineers: http://www.iwr.usace.army.mil/About/TechnicalCenters/WCSCWaterborneCommerceStatisticsCenter.aspx

Navigation Data Center, Vessel Entrances and Clearances, U.S. Army Corps of Engineers: http://www.navigationdatacenter.us/

Maritime Data and Statistics, U.S. Maritime Administration: http://www.marad.dot.gov/library_landing_page/data_and_statistics/Data_and_Statistics.htm

St. Lawrence Seaway, under bilateral American and Canadian management: https://www.seaway.dot.gov/publications/annual-reports and http://www.greatlakes-seaway.com/en/seaway/facts/index.html

Rail Freight Resources and Statistics

The Preliminary National Rail Plan: http://www.fra.dot.gov/eLib/details/L02695

The National Rail Plan Progress Report: http://www.fra.dot.gov/eLib/Details/L02696

Final State Rail Plan Guidance: http://www.fra.dot.gov/eLib/details/L04760

Comparative Evaluation of Rail and Truck Fuel Efficiency on Competitive Corridors: http://www.fra.dot.gov/eLib/Details/L04317

Discussion of the confidential Carload Waybill Sample and State access: http://www.stb.dot.gov/stb/industry/econ_waybill.html

Online highway-rail grade crossing investment analysis tool: http://gradedec.fra.dot.gov/

Web-Based Screening Tool for Shared-Use Rail Corridors: https://www.fra.dot.gov/Page/P0702

Safety Data

FRA Office of Safety: http://safetydata.fra.dot.gov/OfficeofSafety/default.aspx

Interactive mapping application that allows users to view aspects of railroad infrastructure: http://fragis.fra.dot.gov/GISFRASafety/

Air Freight Statistics

FAA Aerospace forecasts: http://www.faa.gov/about/office_org/headquarters_offices/apl/aviation_forecasts/

Office of Airline Information: http://www.rita.dot.gov/bts/sites/rita.dot.gov.bts/files/subject_areas/airline_information/index.html

Community Impacts

OST Ladders Site: https://www.transportation.gov/opportunity

FHWA Bicyclist/Pedestrian Design Resources: http://www.fhwa.dot.gov/environment/bicycle_pedestrian/

EJ Screen: https://www.epa.gov/ejscreen

Issued in Washington, DC, on October 6, 2016.
Anthony Foxx,
Secretary.

[FR Doc. 2016-24862 Filed 10-13-16; 8:45 am]

BILLING CODE 4910-9X-P